DEPARTMENT OF ENERGY

Federal Energy Regulatory Commission

Combined Notice of Filings

Take notice that the Commission has received the following Natural Gas Pipeline Rate and Refund Report filings:

Filings Instituting Proceedings

Docket Numbers: RP18-1167-001.

Applicants: Equitrans, L.P.

Description: Motion of the Peoples LDCs for sixty (60) Day Deferral of Commission Action on December 28, 2018 Equitrans, L.P. 501-G tariff filing under RP18-1167.

Filed Date: 3/11/19.

Accession Number: 20190311-5254.

Comments Due: 5 p.m. ET 3/25/19.

Docket Numbers: RP19-817-000.

Applicants: Panhandle Eastern Pipe Line Company, LP.

Description: Compliance filing Flow Through of Penalty Revenues Report filed on 3-12-19.

Filed Date: 3/12/19.

Accession Number: 20190312-5006.

Comments Due: 5 p.m. ET 3/25/19.

Docket Numbers: RP19-818-000.

Applicants: Algonquin Gas Transmission, LLC.

Description: § 4(d) Rate Filing: Negotiated rate—Con Ed to Pay Less 798603 to be effective 4/1/2019.

Filed Date: 3/12/19.

Accession Number: 20190312-5007.

Comments Due: 5 p.m. ET 3/25/19.

Docket Numbers: RP19-819-000.

Applicants: Texas Eastern Transmission, LP.

Description: § 4(d) Rate Filing: Negotiated Rate—EQT to Colonial 8956450 to be effective 4/1/2019.

Filed Date: 3/12/19.

Accession Number: 20190312-5008.

Comments Due: 5 p.m. ET 3/25/19.

Docket Numbers: RP19-820-000.

Applicants: Empire Pipeline, Inc.

Description: § 4(d) Rate Filing: Fuel Tracker (Empire tracking Supply Storage) to be effective 4/1/2019.

Filed Date: 3/12/19.

Accession Number: 20190312-5009.

Comments Due: 5 p.m. ET 3/25/19.

Docket Numbers: RP19-821-000.

Applicants: Northern Natural Gas Company.

Description: Compliance filing 20190312 NAESB Filing to be effective 8/1/2019.

Filed Date: 3/12/19.

Accession Number: 20190312-5110.

Comments Due: 5 p.m. ET 3/25/19.

Docket Numbers: RP19-822-000.

Applicants: Kern River Gas Transmission Company.

Description: Compliance filing 2019 NAESB 3.1 to be effective 8/1/2019.

Filed Date: 3/12/19.

Accession Number: 20190312-5157.

Comments Due: 5 p.m. ET 3/25/19.

Docket Numbers: RP19-823-000.

Applicants: Northwest Pipeline LLC.

Description: § 4(d) Rate Filing: Miscellaneous and Housekeeping Filing 2019 to be effective 4/12/2019.

Filed Date: 3/12/19.

Accession Number: 20190312-5162.

Comments Due: 5 p.m. ET 3/25/19.

Docket Numbers: RP19-824-000.

Applicants: Dominion Energy Questar Pipeline, LLC.

Description: Compliance filing Order 587-Y NAESB 3.1 Compliance Filing to be effective 8/1/2019.

Filed Date: 3/12/19.

Accession Number: 20190312-5201.

Comments Due: 5 p.m. ET 3/25/19.

Docket Numbers: RP19-825-000.

Applicants: Dominion Energy Overthrust Pipeline, LLC.

Description: Compliance filing Order 587-Y NAESB 3.1 Compliance Filing to be effective 8/1/2019.

Filed Date: 3/12/19.

Accession Number: 20190312-5202.

Comments Due: 5 p.m. ET 3/25/19.

Docket Numbers: RP19-826-000.

Applicants: Questar Southern Trails Pipeline Company.

Description: Compliance filing Order 587-Y NAESB 3.1 Compliance Filing to be effective 8/1/2019.

Filed Date: 3/12/19.

Accession Number: 20190312-5207.

Comments Due: 5 p.m. ET 3/25/19.

Docket Numbers: RP19-827-000.

Applicants: Transcontinental Gas Pipe Line Company, LLC.

Description: § 4(d) Rate Filing: Rate Schedule LSS and SS-2 Tracker Filing eff 4/1/2019 to be effective 4/1/2019.

Filed Date: 3/12/19.

Accession Number: 20190312-5208.

Comments Due: 5 p.m. ET 3/25/19.

Docket Numbers: RP19-828-000.

Applicants: White River Hub, LLC.

Description: Compliance filing Order 587-Y NAESB 3.1 Compliance Filing to be effective 8/1/2019.

Filed Date: 3/12/19.

Accession Number: 20190312-5213.

Comments Due: 5 p.m. ET 3/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2019..
Nathaniel J. Davis, Sr.,
Deputy Secretary.

[FR Doc. 2019-05631 Filed 3-22-19; 8:45 am]

BILLING CODE 6717-01-P